FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 5, 2019.

A. Federal Reserve Bank of Chicago (Colette A. Fried, Assistant Vice President) 230 South LaSalle Street, Chicago, Illinois 60690-1414:

1. Newport Trust Company, as Trustee of Citizens Bancshares of Loyal Stock Bonus Plan and Trust (ESOP); to acquire voting shares of Citizens Bancshares of Loyal and thereby indirectly acquire shares of Citizens State Bank of Loyal, both of Loyal, Wisconsin.

B. Federal Reserve Bank of Dallas (Robert L. Triplett III, Senior Vice President) 2200 North Pearl Street, Dallas, Texas 75201-2272:

1. Annette Louise Harper, Woodson, Texas; to retain voting shares of Woodson Bancshares, Inc., and indirectly retain voting shares of First State Bank, both of Graham, Texas.

C. Federal Reserve Bank of Atlanta (Kathryn Haney, Assistant Vice President) 1000 Peachtree Street NE, Atlanta, Georgia 30309. Comments can also be sent electronically to Applications.Comments@atl.frb.org:

1. Homer Lawton Johnson, Brunswick, Georgia; Jacquelyn S. Johnson, Alma, Georgia; Jacquelyn Lee Johnson, Woodbine, Georgia, Jennifer J. Pope, Macon, Georgia, Zachary M. Johnson, III and Homer Jackson Johnson, both of Alma, Georgia, as co-trustees of the Zachary M. Johnson, Jr. Irrevocable Trust; to retain shares of First Bank Shares of the South East, Inc., and thereby indirectly retain shares of its subsidiary, FNB South (formerly known as First National Bank South), both of Alma, Georgia.

Board of Governors of the Federal Reserve System, August 15, 2019.
Yao-Chin Chao,
Assistant Secretary of the Board.

[FR Doc. 2019-17977 Filed 8-20-19; 8:45 am]

BILLING CODE P